DEPARTMENT OF THE INTERIOR

National Park Service

[NPS-WASO-NAGPRA-19931; PPWOCRADN0-PCU00RP14.R50000]

Notice of Inventory Completion: Peabody Museum of Natural History, Yale University, New Haven, CT

AGENCY: National Park Service, Interior.

ACTION: Notice.

SUMMARY: The Peabody Museum of Natural History has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Peabody Museum of Natural History. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Peabody Museum of Natural History at the address in this notice by February 8, 2016.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the completion of an inventory of human remains under the control of the Peabody Museum of Natural History, New Haven, CT. The human remains were removed from the Blue Earth Village Site (14-Po-0024), near Manhattan, Pottawatomie County, KS.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Peabody Museum of Natural History professional staff in consultation with representatives of the Citizen Potawatomi Nation, Oklahoma, the Delaware Tribe of Indians, the Kaw Nation, Oklahoma, and the Pokagon Band of Potawatomi Indians, Michigan and Indiana.

History and Description of the Remains

In 1868, human remains representing, at minimum, one individual were removed from a cemetery at the Blue Earth Village Site (14-Po-0024), near Manhattan, Pottawatomie County, KS. The human remains were removed by Benjamin Mudge (the first state geologist of Kansas) who, in the same year, donated the human remains to the Peabody Museum of Natural History. No known individuals were identified. No associated funerary objects are present.

According to historical documentation and archaeological evidence, the Kaw (Kanza) people lived at the Blue Earth Village from approximately 1757 to 1825. In 1846, the Kaw moved to Council Grove, Kansas and in 1873, the group was forcibly removed to Kay County, OK where they reside today as the Kaw Nation, Oklahoma.

Determinations Made by the Peabody Museum of Natural History

Officials of the Peabody Museum of Natural History have determined that:

• Pursuant to 25 U.S.C. 3001(9), the human remains described in this notice represent the physical remains of one individual of Native American ancestry.

• Pursuant to 25 U.S.C. 3001(2), there is a relationship of shared group identity that can be reasonably traced between the Native American human remains and the Kaw Nation, Oklahoma.

Additional Requestors and Disposition

Lineal descendants or representatives of any Indian tribe or Native Hawaiian organization not identified in this notice that wish to request transfer of control of these human remains should submit a written request with information in support of the request to Professor David Skelly, Director, Yale Peabody Museum of Natural History, P.O. Box 208118, New Haven, CT 06520-8118, telephone (203) 432-3752 by February 8, 2016. After that date, if no additional requestors have come forward, transfer of control of the human remains to the Kaw Nation, Oklahoma may proceed.

The Peabody Museum of Natural History is responsible for notifying the Citizen Potawatomi Nation, Oklahoma, the Delaware Tribe of Indians, Oklahoma, the Kaw Nation, Oklahoma, and the Pokagon Band of Potawatomi Indians, Michigan and Indiana, and that this notice has been published.

Dated: December 8, 2015.
Amberleigh Malone,
Acting Manager, National NAGPRA Program.

[FR Doc. 2016-00057 Filed 1-6-16; 8:45 am]

BILLING CODE 4312-50-P